DEPARTMENT OF LABOR

Employment and Training Administration

[TA-W-59,743]

Tai Ping Carpets Americas, Formerly Known as Edward Fields, Incorporated, a Divison of Tai Ping Carpets Americas, Inc., College Point, NY; Notice of Termination of Investigation

Pursuant to Section 221 of the Trade Act of 1974, as amended, an investigation was initiated on July 18, 2006 in response to a worker petition filed on behalf of workers of Tai Ping Carpets Americas, formerly known as Edward Fields, Inc., a division of Tai Ping Carpets Americas, Inc., College Point, New York.

The petitioning group of workers is covered by an active certification (TA-W-57,805) which expires on September 23, 2007. Further investigation in this case would duplicate efforts and serve no purpose; therefore the investigation under this petition has been terminated.

Signed at Washington, DC, this 18th day of August 2006.
Richard Church,
Certifying Officer, Division of Trade Adjustment Assistance.

[FR Doc. E6-14572 Filed 8-31-06; 8:45 am]

BILLING CODE 4510-30-P